DEPARTMENT OF ENERGY

Federal Energy Regulatory Commission

Combined Notice of Filings

Take notice that the Commission has received the following Natural Gas & Oil Pipeline Rate and Refund Report filings:

Filings Instituting Proceedings

Docket Numbers: RP23-707-000.

Applicants: Wyoming Interstate Company, L.L.C.

Description: § 4(d) Rate Filing: Fuel_LU Quarterly Update Filing June 1, 2023 to be effective 6/1/2023.

Filed Date: 4/25/23.

Accession Number: 20230425-5166.

Comment Date: 5 p.m. ET 5/8/23.

Docket Numbers: RP23-708-000.

Applicants: BP Canada Energy Marketing Corp., BP Energy Company.

Description: Joint Petition for Limited Waiver of Capacity Release Regulations, et al. of BP Energy Co., et al.

Filed Date: 4/25/23.

Accession Number: 20230425-5290.

Comment Date: 5 p.m. ET 5/8/23.

Docket Numbers: RP23-709-000.

Applicants: Transwestern Pipeline Company, LLC.

Description: § 4(d) Rate Filing: Negotiated Rates Filing—NRA Concord & Talen/XTO Name Change to be effective 5/1/2023.

Filed Date: 4/26/23.

Accession Number: 20230426-5085.

Comment Date: 5 p.m. ET 5/8/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP19-423-004.

Applicants: Tallgrass Interstate Gas Transmission, LLC.

Description: Petition to Amend Settlement of Tallgrass Interstate Gas Transmission, LLC.

Filed Date: 4/25/23.

Accession Number: 20230425-5325.

Comment Date: 5 p.m. ET 5/8/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2023.
Debbie-Anne A. Reese,
Deputy Secretary.

[FR Doc. 2023-09242 Filed 5-1-23; 8:45 am]

BILLING CODE 6717-01-P